DEPARTMENT OF VETERANS AFFAIRS

38 CFR Part 3

RIN 2900-AL21

Duty Periods; Inactive Duty for Training

AGENCY: Department of Veterans Affairs.

ACTION: Final rule.

SUMMARY: The Department of Veterans Affairs (VA) is amending its adjudication regulations regarding service connection for disabilities incurred or aggravated during inactive duty for training. This amendment is necessary to insure the regulations accurately reflect a statutory amendment.

DATES: Effective Date: July 31, 2002.

FOR FURTHER INFORMATION CONTACT: Randy A. McKevitt, Consultant, Regulations Staff, Compensation and Pension Service, Veterans Benefits Administration, 810 Vermont Avenue, NW., Washington, DC 20420, telephone (202) 273-7138.

SUPPLEMENTARY INFORMATION: VA is amending its adjudication regulations regarding service connection for disabilities incurred or aggravated during inactive duty for training. The regulation amending 38 CFR 3.6 to implement Public Law 106-419, November 1, 2000, Veterans Benefits and Health Care Improvement Act of 2000, used wording slightly different from the wording of the Act. We are amending the regulation to accurately reflect the wording of the Act.

Administrative Procedure Act

We are publishing this as a final rule because the amendment only restates the statute and makes no substantive changes in the regulation. (5 U.S.C. 553).

Paperwork Reduction Act

This document contains no provisions constituting a collection of information under the Paperwork Reduction Act (44 U.S.C. 3501-3520).

Regulatory Flexibility Act

The Secretary hereby certifies that this regulatory amendment will not have a significant economic impact on a substantial number of small entities as they are defined in the Regulatory Flexibility Act (RFA), 5 U.S.C. 601-612. Only VA beneficiaries could be directly affected. Therefore, pursuant to 5 U.S.C. 605(b), this amendment is exempt from the initial and final regulatory flexibility analysis requirements of sections 603 and 604.

Catalog of Federal Domestic Assistance

The Catalog of Federal Domestic Assistance program numbers are 64.109 and 64.110.

List of Subjects in 38 CFR Part 3

Administrative practice and procedure, Claims, Disability benefits, Health care, Pensions, Veterans, Vietnam.

Approved: July 3, 2002.
Anthony J. Principi,
Secretary of Veterans Affairs.

For the reasons set forth in the preamble, 38 CFR part 3 is amended as follows:

PART 3—ADJUDICATION

Subpart A—Pension, Compensation, and Dependency and Indemnity Compensation

1. The authority citation for part 3, subpart A continues to read as follows:

Authority: 38 U.S.C. 501(a), unless otherwise noted.

2. Section 3.6 is amended by:

A. Removing paragraphs (a)(1) through (a)(3).

B. In paragraph (a), removing “a covered disease which occurred during such training. For purposes of this section, the term ‘covered disease’ is limited to-”, and adding, in its place, “an acute myocardial infarction, a cardiac arrest, or a cerebrovascular accident which occurred during such training.”

C. Adding paragraph (e)(3) preceding the authority citation at the end of the section.

The addition reads as follows:

§ 3.6 Duty periods.

* * * * *

(e) * * *

(3) For purposes of this section, the term covered disease means any of the following:

(i) An acute myocardial infarction.

(ii) A cardiac arrest.

(iii) A cerebrovascular accident.

[FR Doc. 02-19329 Filed 7-30-02; 8:45 am]

BILLING CODE 8320-01-P